SMALL BUSINESS ADMINISTRATION

[Declaration of Disaster #3627)

State of Florida (Amendment # 5)

In accordance with a notice received from the Department of Homeland Security—Federal Emergency Management Agency—effective December 9, 2004, the above numbered declaration is hereby amended to include Brevard, Citrus, Clay, Duval, Flagler, Highlands, Indian River, Lake, Lee, Manatee, Marion, Martin, Okeechobee, Osceola, Orange, Palm Beach, Pasco, Polk, Seminole, St. Johns, St. Lucie, and Volusia as disaster areas due to damages caused by Hurricane Ivan occurring on September 13, 2004, and continuing through November 17, 2004.

In addition, applications for economic injury loans from small businesses located in the contiguous counties of Alachua, Baker, Bradford, Broward, Charlotte, Collier, DeSoto, Glades, Hardee, Hendry, Hernando, Hillsborough, Levy, Nassau, Pinellas, Putnam, Sarasota, and Sumter may be filed until the specified date at the previously designated location. All other counties contiguous to the above named primary counties have previously been declared.

All other information remains the same, i.e., the deadline for filing applications for physical damage is January 3, 2005 and for economic injury the deadline is June 16, 2005.

(Catalog of Federal Domestic Assistance Program Nos. 59002 and 59008).
Dated: December 14, 2004.
Herbert L. Mitchell,
Associate Administrator for Disaster Assistance.

[FR Doc. 04-27763 Filed 12-17-04; 8:45 am]

BILLING CODE 8025-01-P